POSTAL SERVICE

39 CFR Part 111

Standards Governing the Design of Curbside Mailboxes

AGENCY: Postal Service.

ACTION: Proposed rule.

SUMMARY: The Postal Service proposes to revise USPS STD 7A, which governs the design of curbside mailboxes. The proposed revision was developed through a consensus process and was approved by a committee of representatives from mailbox manufacturers, mailbox accessory manufacturers, and the Postal Service.

DATES: The Postal Service must receive written comments on or before December 1, 2000.

ADDRESSES: Written comments should be mailed to Civil Practice Section, Law Department, U.S. Postal Service, 475 L'Enfant Plaza SW., Room 6235, Washington DC 20260-1127. Copies of all written comments will be available for public inspection and copying between 9:00 a.m. and 4:00 p.m., Monday through Friday, at the address above.

FOR FURTHER INFORMATION CONTACT: Annamarie Gildea, (202) 268-3558.

SUPPLEMENTARY INFORMATION: U.S. Postal Service Standard, Mailboxes, City and Rural Curbside, USPS STD 7A, governs the design of curbside mailboxes. The current standard, adopted in 1992, prescribes design limitations in terms that are no longer consistent with the operational requirements of the Postal Service.

The Postal Service used a consensus process in developing the proposed revised standard. In a consensus process, representatives of interests that would be substantially affected by a new rule meet as an advisory committee and negotiate among themselves and with the agency to reach a consensus on a proposed new rule. As part of the consensus process, the agency agrees to use a recommendation by the committee as the basis of the proposed rule. In addition, each private member of the Committee agrees that, if it agrees to a recommendation by the Committee, it will support that recommendation and the proposed rule to the extent that it reflects the recommendation.

In this instance, the Postal Service retained the services of an independent, neutral third party to convene a Consensus Committee and facilitate discussions of Committee members. Based on the Convenors' recommendation, the Postal Service invited Consensus Committee members representing interests that were expected to be substantially affected by the new rule. Further, Committee members were responsible for representing other interested individuals and organizations that were not present at committee meetings and keeping them informed of the Committee's proceedings.

As part of the ground rules agreed to by all members of the Consensus Committee, the Postal Service agreed to use a recommendation by the Committee as the basis of the proposed rule. In addition, each private member of the Committee agreed that, if it agreed to a recommendation by the Committee, it would support that recommendation and the proposed rule to the extent that it reflects the recommendation. After the Consensus Committee held several meetings that were open to the public, the Committee approved and recommended the standard set forth below.

Changes incorporated in the proposed new standard, which shall be titled USPS STD 7B include the following:

1. Eliminated the requirement that Traditional mailboxes must be built in conformance with USPS drawings (formerly designated T1, T2, and T3). All three USPS drawings were eliminated and replaced with a new figure which gives manufacturers more design flexibility.

2. Removed all requirements to comply with military and federal specifications and standards.

3. Deleted flammability, solar exposure, and color intensity test requirements that were determined to be invalid or unnecessary.

4. Dropped requirement that manufacturers comply with the National Motor Freight Classification Rule 222.

5. Introduced a new Locked mailbox classification with two new figures. This design will provide customers with an option to purchase mailboxes that offer increased security for their mail.

6. Incorporated quality assurance provisions.

7. Added a figure depicting three new alternative flag designs.

8. Included new guidelines and a figure for acceptable door handle and knob designs.

9. Clarified application requirements and introduced independent laboratory testing.

Re-approval of Manufacturers' Curbside Mailboxes

The re-approval process for manufacturers with mailbox designs that were approved before the final publication date of USPS STD 7B will be conducted as follows. The approval process for all other mailbox designs will be conducted in accordance with USPS STD 7B, part 5.

1. The USPS will notify currently approved manufacturers within five business days after final publication of USPS STD 7B in the Federal Register when to submit their mailboxes for re-approval. All mailboxes must be submitted to: Attn Test Evaluation & Quality, USPS Engineering, 8403 Lee Hwy, Merrifield, VA 22082-8101.

2. Manufacturers will have 90 days after receipt of this notification to submit a sample of each of their previously approved mailboxes. In addition, manufacturers shall submit their quality assurance manual, and each mailbox must be accompanied with a compliance certificate, one set of drawings, product information, and instructions. Mailboxes will be tested on a first-come, first-served basis.

3. If a previously approved mailbox is not submitted within the 90-day period, it will automatically lose its approval status. A manufacturer may receive an extension of up to 45 days, provided reasonable justification is demonstrated to the USPS. Manufacturers seeking an extension must write to: Attn Delivery & Retail Systems, USPS Information Platform, 8403 Lee Hwy, Merrifield, VA 22082-8101.

4. The USPS will have up to 90 days to respond to submissions, during which time manufacturers can continue to sell their mailboxes.

5. If a submitted mailbox does not pass the revised standard's requirements, the manufacturer may make modifications and re-submit their mailbox one additional time. The manufacturer will have 45 days after the date of USPS's notice of denial of the manufacturer's first application to submit a second sample. Should the second sample fail testing, the manufacturer has up to 180 days from notification of failure to cease selling it. The manufacturer is also to cease production immediately and use the 180 days to deplete existing inventory.

6. If a mailbox fails two testing attempts, manufacturers may still make modifications and re-submit in accordance with the new application requirements specified in the revised standard. However, the conditions identified in #5 above remain in effect.

List of Subjects in 39 CFR Part 111

Postal Service.

PART 111—[AMENDED]

1. The authority citation for 39 CFR part 111 continues to read as follows:

Authority: 5 U.S.C. § 552(a), 39 U.S.C. §§ 101, 401, 403, 404, 3001-3011, 3201-3219, 3403-3406, 3621, 3626, 5001.

2. Revise USPS STD 7A as set forth below:

1 SCOPE AND CLASSIFICATION

1.1 Scope

This standard covers all curbside mailboxes. Curbside mailboxes are defined as any design made to be served by a carrier from a vehicle on any city, rural, or highway contract route. This standard is not applicable to mailboxes intended for door delivery service (see 6.1).

1.2 Classifications

Based on their size and design, curbside mailboxes are classified as:

T—Traditional, Full or Limited Service (see 3.2.1 and Figure 1).

C—Contemporary, Full or Limited Service (see 3.2.2).

L—Locked, Full or Limited Service (see 3.2.3 and Figures 2 and 3).

1.3 Approved Models

1.3.1 Approved Models

Manufacturers whose mailboxes have been approved by the United States Postal Service (USPS) will be listed in the Postal Operations Manual (POM) and published in the Postal Bulletin.

1.3.2 Interested Manufacturers

Manufacturing standards and current information concerning the manufacture of curbside mailboxes may be obtained by writing to: USPS Information Platform, Delivery and Retail Operation Equipment, 8403 Lee Hwy, Merrifield, VA 22082-8101.

2 APPLICABLE DOCUMENTS

2.1 Specifications and Standards

Except where specifically noted, the specifications set forth herein shall apply to all curbside mailbox designs.

2.2 Government Documents

The following documents of the latest issue are incorporated by reference as part of this standard.

United States Postal Service

DMM Domestic Mail Manual

POM Postal Operations Manual

Copies of the Domestic Mail Manual can be obtained from the Government Printing Office, Mail Stop SSOM, 732 N Capitol Street NW., Washington DC 20402-9375. It is available on the Internet also at http://pe.usps.gov.

Copies of the Postal Operations Manual can be obtained from the USPS Material Distribution Center, 500 SW. Montara Pkwy, Topeka KS 66624-9702.

2.3 Non-Government Documents

The following documents of the latest issue are incorporated by reference as part of this standard.

American Standards for Testing Materials (ASTM)

ASTM G85 Standard Practice for Modified Salt Spray (Fog) Testing

ASTM D968 Standard Test Methods for Abrasion Resistance of Organic Coatings by Falling Abrasive

Copies of these documents can be obtained from the American Society for Testing and Materials, 1916 Race Street, Philadelphia PA 19103-1108.

Underwriters Laboratories

UL 771 Night Depositories (Rain Test Only)

Copies of this document can be obtained from Underwriters Laboratories Inc., 333 Pfingsten Road, Northbrook IL 60062-2096.

American Society for Quality

ANSI/ASQC Q9002-1994 Quality Systems—Model for Quality Assurance in Production, Installation, and Servicing

ANSI/ISO/ASQC Q10013-1995 Guidelines for Developing Quality Manuals

Copies of these documents can be obtained from the American Society for Quality, PO Box 3066, Milwaukee WI 53201-3066.

3 REQUIREMENTS

3.1 Quality

Mailbox manufacturers must ensure and be able to substantiate that units manufactured conform to the requirements of this specification.

3.1.1 Inspection

The Postal Service reserves the right to inspect units for conformance to this specification at any stage of manufacture. Inspection by the Postal Service does not relieve the manufacturer of the responsibility to provide performance that conforms to the requirements set forth in this specification. Prior to any visits, the Postal Service will provide a minimum notice of 30 business days. The Postal Service will suspend the approval status of any manufacturer's model which is found to be out of conformance with approved drawings (see 5.2.2).

3.1.2 System

The manufacturer shall use a documented quality system acceptable to the Postal Service. As a minimum, the manufacturer's quality system shall include controls and record keeping in the following areas (a quality system in compliance with ANSI/ASQC Q9002-1994 meets this requirement):

3.1.2.1 Inspection and testing;

3.1.2.2 Inspection, measuring, and test equipment;

3.1.2.3 Control of nonconforming products;

3.1.2.4 Document control; and

3.1.2.5 Corrective action.

3.1.3 System Evaluation

The Postal Service has the right to evaluate the acceptability and effectiveness of the manufacturer's quality system before approval and during tenure as an approved source.

3.1.4 Records

All of the manufacturer's records pertaining to the approved product shall be kept for a minimum of three years after shipment of product.

3.2 General Design

Mailboxes must meet regulations and requirements as stipulated in paragraph 2.2. This includes carrier door operation as stated in 3.4, flag operation as stated in 3.7, incoming mail openings, and the retrieval of outgoing mail. The opening style, design, and size are determined by the manufacturer; however, the carrier must be able to deposit the customer's mail through the slot or open door with a single motion of the carrier's arm. Outgoing mail of all designs must be able to be pulled straight out of the mailbox without interference from protrusions, hardware, etc. Mailboxes must be capable of passing the applicable testing requirements in 3.15. Mailboxes must not be made of any transparent, toxic, or flammable material (see 3.3). The mailbox must protect mail from water damage which may result from wet weather conditions (see 3.15.3). Any and all advertising on a mailbox or its support is prohibited. Additional specific requirements follow.

3.2.1 Traditional Designs (Limited and Full Service)

Mailbox designs that conform to Figure 1 and meet capacity requirements specified in 3.15.1 will be classified as Traditional. Designs incorporating a carrier signal flag (see 3.7) will be classified as full service mailboxes. Designs with no flag will be classified as limited service (see 3.12.2). As specified in 3.5, a rear door is permitted to enable the customer to remove mail without standing in the street. The use of locks, locking devices, or inserts is prohibited.

3.2.2 Contemporary Designs (Limited and Full Service)

Mailbox designs that do not conform to the dome-rectangular shape of Traditional designs but meet capacity requirements specified in 3.15.1 will be classified as Contemporary. Designs incorporating a carrier signal flag (see 3.7) will be classified as full service mailboxes. Designs with no flag will be classified as limited service (see 3.12). Although the shape and design is less restrictive, Contemporary mailboxes must meet the same applicable functional requirements. Contemporary designs can also incorporate a rear door, as specified in 3.5, to enable the customer to remove mail without standing in the street. The use of locks, locking devices, or inserts is prohibited.

3.2.3 Locked Designs

Mailbox designs that provide security for customer's incoming mail will be classified as Locked mailboxes (see Figures 2 and 3). Although the shape and design is less restrictive, Locked mailboxes must meet the same applicable functional requirements. Designs having a slot for incoming mail must be at least 1.75 inches high by 10 inches wide. If a slot has a protective flap it must operate inward to ensure mail can be inserted in horizontal manner without requiring any additional effort of carriers (see Figure 3). The slot must be positioned on the front side of the mailbox facing the street. In addition, the slot must be clearly visible and directly accessible by mail carriers. Any designs that allow for outgoing mail must meet all applicable requirements of this standard.

3.2.3.1 Full Service

Locked mailbox designs of this class allow for both incoming and outgoing mail as depicted in Figure 2. It is preferred that both incoming and outgoing mail compartments be located behind a single carrier service door as shown in Figure 2 (the term “preferred” in this document means that compliance is desired but not mandatory). Alternate positioning of the incoming mail compartment, such as beneath or side-by-side with the outgoing compartment, is permitted provided that no additional carrier service is introduced.

3.2.3.2 Limited Service

Locked mailbox designs of this class allow only for incoming mail as shown in Figure 3.

3.2.4 Mailbox Accessories

Decorative art and devices can be attached to the exterior of approved mailbox designs provided they do not interfere with mail delivery or present a safety hazard. Devices can also be mounted in the interior of approved mailboxes provided they do not cause the mailbox to fail the capacity test described in 3.15.1 and do not interfere with mail delivery or present a safety hazard. Any and all advertising on a mailbox or its support is prohibited. Unrestricted spring-loaded devices and designs are prohibited. Auxiliary flags or devices used to signal the customer that the mail has arrived must operate automatically without requiring additional carrier effort.

3.3 Materials

Ferrous or nonferrous metal, wood (restrictions apply), plastic, or other materials may be used, as long as their thickness, form, mechanical properties, and chemical properties adequately meet the operational, structural, and performance requirements set forth in this standard. Materials used must not be toxic, flammable, or transparent.

3.3.1 Mailbox Floor

The entire bottom area of all mailboxes where mail would rest shall be fabricated to prevent mail from damage due to condensation or moisture. Except for the internal mail compartment of locked-style mailboxes, all designs must not present a lip or protrusion that would prevent the mail from being inserted or pulled straight out of the mailbox. The surface of the floor cannot be made of wood material. The floor shall be ribbed as shown in Figures 1, 2, and 3 or dimpled, embossed, or otherwise fabricated provided the resulting surface area (touching mail) does not exceed .25 square inch (per dimple/impression) and is minimum of .12 inch high on centers not exceeding 1 inch. A mat insert having a raised surface contour may be used for the internal mail compartment of locked-style mailboxes only (see Figures 2 and 3).

3.3.2 Carrier Signal Flag

Cannot be made of wood. Plastic is the preferred material.

3.3.3 Door Handle

Cannot be made of wood. Plastic is the preferred material.

3.4 Carrier Service Door

There shall be only one carrier service door, which must provide access for mail delivery and collection intended by the unit and meet USPS delivery operational requirements (see 2.2). The door must meet the applicable testing requirements specified in 3.15.2. The carrier service door must operate freely and solely by pulling outward and downward with a convenient handle or knob. The design of the door, including hinges and handles, must provide protection against wind, rain, sleet, or snow (see 3.15.3). Door latches must hold the door closed but allow easy opening and closing requiring no more than 5 pounds of force. Action of the latch must be a positive mechanical one not relying solely on friction of the hinge parts. The door shall not be spring-loaded. Magnetic latches are acceptable provided adequate closure power is maintained during ambient conditions specified in 3.15.6 and applicable testing described in 3.15. It is preferred that by either tactile or by sound (i.e., snap or click) carriers are alerted that the door is properly shut. The door, once opened, must remain in the open position until the carrier pushes it closed. The door must rotate a minimum of 100 degrees when opened and it is preferred that the maximum rotation be limited to 120 degrees or less. When in a fully opened and rest position, the opening angle of the door cannot measure more than 180 degrees. No protrusions other than the handle or knob, door catch, alternate flag design, decorative features, or markings are permitted on the carrier service door. Decorative features or markings must not interfere with delivery or present a safety hazard. Protrusions of any kind that cause a mailbox to fail the capacity test described in 3.15.1 are prohibited. See section 3.2.3 for carrier service door requirements for Locked mailbox designs.

3.4.1 Handle/Knob

The handle or knob shall have adequate accessibility to permit quickly grasping and pulling it with one hand (with or without gloves) to open the door. The handle or knob shall be located within the top third of the door. Various acceptable handle and knob designs with required dimensions are depicted in Figure 5. Other designs may be acceptable, provided they allow enough finger clearance and surface area for carriers to grasp.

3.5 Rear Doors

Mailboxes may have a rear door, provided that it does not interfere with the normal delivery and collection operation provided by the carrier or require the carrier to perform any unusual operations. The rear door must not be susceptible to being forced open as a result of large mail items such as newspapers and parcels being inserted through the carrier door. The rear door must meet the applicable testing requirements specified in 3.15.

3.6 Locks

Locked mailbox designs shall have an effective means to ensure that incoming mail is accessible only by the customer. The use of locks on Contemporary and Traditional mailbox designs is prohibited. Manufacturers must include the following statement in their instructions to customers: “IT IS IMPORTANT TO NOTE THAT IT IS NOT THE RESPONSIBILITY OF MAIL CARRIERS TO OPEN MAILBOXES THAT ARE LOCKED, ACCEPT KEYS FOR THIS PURPOSE, OR LOCK MAILBOXES AFTER DELIVERY OF THE MAIL.”

3.7 Carrier Signal Flag

Traditional, Contemporary, and Locked mailbox designs classified as Full Service shall have a carrier signal flag. The flag design must be one of the approved concepts depicted in Figures 1, 2, and 4. As shown in each figure, the flag must be mounted on the right side when facing the mailbox from the front. The flag must not require a lift or more than 2 pounds of force to retract. Additionally, when actuated (signaling outgoing mail) the flag must remain in position until retracted by the carrier. The color of the flag must be in accordance with requirements described in 3.10. The operating mechanism of the flag must not require lubrication and must continue to operate properly and positively (without binding or excessive free play) after being subjected to testing described in 3.15. Optionally, the flag may incorporate a self-lowering feature that causes it to automatically retract when the carrier service door is opened, provided no additional effort is required of the carrier. The self-lowering feature cannot present protrusions or attachments and must not interfere with delivery operations in any manner or present hazardous features as specified in 3.2.

3.8 Marking

The mailbox must bear two inscriptions on the carrier service door: “U.S. MAIL” in a minimum of .50-inch-high letters and “Approved By The Postmaster General” in a minimum of .18-inch-high letters. These inscriptions may be positioned beneath the incoming mail slot for Limited Service Locked mailboxes as shown in Figure 3. Markings must be permanent and may be accomplished by applying a decal, embossing on sheet metal, raised lettering on plastic, engraving on wood, or other methods that are suitable for that particular unit. The manufacturer's name, address, date of manufacture (month and year), and model number or nomenclature must be legible and permanently marked or affixed on a panel (rear, backside of door, bottom, or side interior near the carrier service door) of the mailbox that is readily accessible and not obscured.

3.8.1 Modified Mailbox Marking

Mailboxes that use previously approved units in their design must include marking stating the new manufacturer's name, address, date of manufacture, and model nomenclature in a permanent fashion and location as described above. Additionally, the “U.S. MAIL” and “Approved By The Postmaster General” marking shall be reapplied if it is obscured or obliterated by the new design.

3.9 Coatings and Finishes

Choice of coatings and finishes is optional, provided all requirements of this standard are met. All coatings and finishes must be free from flaking, peeling, cracking, crazing, blushing, and powdery surfaces. Coatings and finishes must be compatible with the mailbox materials. Accept for small decorative accents, mirrorlike coatings or finishes are prohibited. The coating or finish must meet the applicable testing requirements described in 3.15.5.

3.10 Color

The color of the mailbox and flag must be in accordance with the following requirements. The mailbox may be any color. The carrier signal flag can be any color except any shade of green, brown, white, yellow, or blue. The preferred flag color is fluorescent orange. Also, the flag color must present a clear contrast with the predominant color of the mailbox.

3.11 Mounting

The mailbox shall be provided with a means for convenient and locked mounting that meets all applicable requirements of the Postal Operations Manual. The manufacturer may offer various types of mounting accessories such as a bracket, post, or stand. Although the USPS does not regulate the design of mounting accessories, it is pointed out that no part may project beyond the front of the mounted mailbox. Mounting accessories must not interfere with delivery operations as described in 3.2 or present hazardous features as described in 3.14. See section 6 for additional important information.

3.12 Instructions and Product Information

3.12.1 Assembly and Installation

A complete set of instructions for assembling and mounting the mailbox shall be furnished with each unit. The instructions must include the following conspicuous message: “CUSTOMERS ARE REQUIRED TO CONTACT THE LOCAL POST OFFICE BEFORE INSTALLING THE MAILBOX TO ENSURE ITS CORRECT PLACEMENT AND HEIGHT AT THE STREET. GENERALLY, MAILBOXES ARE INSTALLED AT A HEIGHT OF 41-45 INCHES FROM THE ROAD SURFACE TO INSIDE FLOOR OF THE MAILBOX OR POINT OF MAIL ENTRY (LOCKED DESIGNS) AND ARE SET BACK 6-8 INCHES FROM FRONT FACE OF CURB OR ROAD EDGE TO THE MAILBOX DOOR.”

3.12.2 Limited Service Mailboxes

The following conspicuous note shall be included with each mailbox:

“THIS IS A LIMITED SERVICE MAILBOX (WITHOUT FLAG) AND IT IS INTENDED ONLY FOR CUSTOMERS WHO DO NOT WANT POSTAL CARRIERS TO PICK UP THEIR OUTGOING MAIL. UNLESS POSTAL CARRIERS HAVE MAIL TO DELIVER, THEY WILL NOT STOP AT LIMITED SERVICE MAILBOXES.”

3.13 Newspaper Receptacles

A receptacle for the delivery of newspapers may be attached to the post of a curbside mailbox, provided no part of the receptacle interferes with the delivery of mail, obstructs the view of the flag, or presents a hazard to the carrier or the carrier's vehicle. The receptacle must not extend beyond the front of the box when the door is closed. No advertising may be displayed on the outside of the receptacle, except the name of the publication.

3.14 Workmanship

The mailbox shall be properly assembled and utilize the best commercial practice workmanship standards in the fabrication of all components and assemblies. All movable parts shall fit and operate properly with no unintended catch or binding points. The unit must be free from harmful projections or other hazardous devices. The unit must not have any sharp edges, sharp corners, burrs, or other features (on any surfaces) that may be hazardous to carriers/customers, or that may interfere with delivery operations as described in 3.2.

3.15 Testing Requirements

Mailboxes will be subjected to all applicable testing described herein (specific requirements follow). A mailbox that fails to pass any test will be rejected. Testing will be conducted in sequence as listed herein and in Table III.

3.15.1 Capacity

Traditional and Contemporary designs must meet minimum capacity requirements tested by insertion and removal of a standard test gauge which measures 18.50″ long x 5.00″ wide x 6.00″ high. The test gauge is inserted with its 6.00″ dimension aligned in the vertical axis (perpendicular to the mailbox floor). The gauge must be capable of easy insertion and removal and, while inserted, allow for the door(s) to be completely closed without interference. The capacity of Locked designs, which have slots, chutes, or similar features, will be tested and approved based upon whether standard USPS mail sizes (see Table I) can be easily inserted through the mail slot or opening. Retrieval of this mail from the locked compartment shall be equally as easy.

Table I.—Standard Mail (Locked Designs)
Description | Size (L x H x Thk)
Express and Priority Mail Envelopes | 12½″ x 9½″ x ½″
Priority Mail Box | 8⅝″ x 5⅜″ x 1⅝″

3.15.2 Operational Requirements

Carrier service doors, auxiliary doors, door catches/mechanisms, carrier signal flags, and applicable accessory devices must be capable of operating 7,500 normal operating cycles (one cycle=open/close) at room temperature, continuously and correctly, without any failures such as breakage of parts. Testing may be performed either manually or by means of an automated, mechanically driven test fixture which essentially mimics a manual operation. This test is applicable to all mailbox designs.

3.15.3 Water Tightness

A rain test in accordance with UL 771, section 47.7, shall be performed to determine a mailbox's ability to protect mail from water. The rain test shall be operated for a period of 15 minutes for each side. At the conclusion of the test, the outside of the unit is wiped dry and all doors are opened. The inside of the compartment must contain no water other than that produced by high moisture condensation. This test is applicable to all mailbox designs.

3.15.4 Salt Spray Resistance

A salt spray test shall be conducted in accordance with method A5 of ASTM G85, Standard Practice for Modified Salt Spray (Fog) Testing. The salt test shall be operated for 25 continuous cycles with each cycle consisting of one hour of fog and one hour of dry-off. The mailbox shall be tested in a finished condition, including all protective coating, paint, and mounting hardware, and shall be thoroughly washed when submitted to remove all oil, grease, and other nonpermanent coatings. No part of the mailbox may show finish corrosion, blistering, or peeling or other destructive reaction upon conclusion of test. Corrosion is defined as any form of property change such as rust, oxidation, color changes, perforation, accelerated erosion, or disintegration. The buildup of salt deposits on the surface shall not be cause for rejection. However, any corrosion, paint blistering, or paint peeling is cause for rejection. This test is primarily applicable to ferrous metal mailbox designs. It is also valid for mailboxes designs made of plastic, wood, or other materials which use any metal hardware.

3.15.5 Abrasion Resistance

The mailbox's coating/finish shall be tested for resistance to abrasion in accordance with method A of ASTM D968. The rate of sand flow shall be 2 liters of sand in 22 seconds, plus or minus 3 seconds. The mailbox will have failed the sand abrasion test if less than 15 liters of sand penetrates its coating or if less than 75 liters of sand penetrates its plating. This test is applicable to metal mailbox designs only.

3.15.6 Temperature Stress Test

The mailbox under test shall be placed in a cold chamber at −65° Fahrenheit for 24 hours. The chamber shall first be stabilized at the test temperature. After remaining in the −65° environment for the 24-hour period, the unit shall be quickly removed from the cold chamber into room ambient and tested for normal operation. The removal from the chamber and the testing for normal operation shall be accomplished in less than three minutes. The room ambient shall be between 65° and 75° Fahrenheit. Normal operation is defined as operation required and defined by this document. The unit under test shall undergo a similar temperature test, as described above, at a temperature of 140° Fahrenheit. This test is applicable to all mailbox designs.

3.15.7 Structural Rigidity Requirements

Forces of specified magnitude (see Table II) shall be slowly applied at specific points on the mailbox under test (see Figure 6). These forces shall be held for a minimum of one minute and then released. After their release, the deformation caused by the forces shall be measured. If the deformation exceeds the limit specified in Table II, the mailbox under test has failed to meet the structural rigidity requirement. The doors shall remain closed for test positions one through six. The application of the forces at positions one and two shall be applied with the mailbox in its normal upright position, supported by a horizontal board. The application of the forces at positions three, four, and five shall be applied with the mailbox lying on its side (flag side down). The mailbox shall be supported, on the underside, by a flat board that is relieved in the immediate area of the flag mechanism. The application of force at position six (Traditional style flags only) shall be applied with the mailbox lying on its side (flag side up). The application of force at position six shall be repeated at the top of the flag with the mailbox in its normal upright position. If visible cracks in the material have developed as a result of the testing, the mailbox under test has failed to meet the structural rigidity requirement. At the conclusion of the structural rigidity testing, if the mailbox under test fails to operate normally, as defined by this document, the mailbox under test has failed to meet the structural rigidity requirement. This test is applicable to all mailbox designs.

Table II.—Permanent Deformation Limits
Position | Deformation (inches) | Load (pounds)
1 | ⅛ | 200
2 | ⅛ | 200
3 | ⅛ | 50
4 | ⅛ | 50
5 | ⅛ | 100
6 | ½ | 2

3.15.8 Impact Test

Refer to Figure 6 for load positions. Precondition the mailbox for four hours at −20° Fahrenheit. The following testing shall be performed within three minutes of removing the mailbox from the temperature chamber. At both load positions three and four, with the mailbox lying on its side (flag side down) with the door(s) closed, apply an impact load equivalent to a 10-pound weight dropped from a height of 3 feet above the mailbox surface onto a bolster plate having a surface not larger than 2 inches by 2 inches. The mailbox shall be supported, on the underside, by a flat board that is relieved in the immediate area of the flag mechanism. If any noticeable perforation, occurrence of sharp edges, or cracking of the material, either inside or outside the mailbox, develops as a result of the impact, or if the door becomes inoperable or fails to close normally, the mailbox under test has failed to meet the impact resistance requirement. This test is applicable to all mailbox designs.

4 APPLICATION REQUIREMENTS

4.1 Application Requirements

Requests for application materials, and all other correspondence and inquiries, shall be directed to the address in 1.3.2. The application process is described below.

4.1.1 Preliminary Review

Manufacturers must first satisfy requirements of a preliminary review prior to submitting any sample mailboxes or accessories. The preliminary review consists of a review of the manufacturer's conceptual design drawings. Computer-generated drawings are preferred, but hand-drawn sketches are acceptable provided they clearly depict the overall shape and interior size of the proposed mailbox design. Drawings must also include details on design of applicable features such as the carrier service door, latch, handle, flag, floor, and slot. In addition to drawings, proposed accessories shall show or describe intended function. If drawings show that the proposed mailbox design appears to comply with the requirements of this standard, manufacturers will be notified in writing and may then continue with the application requirements described in 4.1.2. Do not submit any sample mailboxes to the USPS prior to complying with the requirements of 4.1.2. Notification that a manufacturer's drawings satisfy the requirements of the preliminary review does not constitute USPS approval of a design and shall not be relied upon as an assurance that a design will be approved.

4.1.2 Testing

Upon receiving written notification from the USPS that their design satisfies requirements of the preliminary review, manufacturers shall at their own expense submit one sample of their mailbox or accessory to an independent laboratory for testing along with a copy of the preliminary review letter from the USPS. See Appendix A for a list of USPS-approved independent test labs. Manufacturers with more than one unique model shall have each one tested independently. Models which are generally of the same size, shape, and material of previously approved designs but have only different decorative features (i.e., color scheme and surface contours) are not considered unique and do not require any testing. Manufacturers seeking approval of models that are not unique shall submit documentation for each model in accordance with section 4.1.3.2. This documentation will be reviewed and the proposed model will be approved or disapproved (see section 5). The USPS may request that the manufacturer submit one sample of the proposed model.

4.1.3 Final Review

Manufacturers shall submit one sample mailbox or accessory to the USPS for final review and approval. The sample shall be accompanied by a certificate of compliance and a copy of the laboratory test results (see 4.1.3.3). Mailboxes submitted to the USPS (see 1.3.2) for final evaluation must be identical in every way with the mailboxes to be marketed and must be marked as specified in 3.8. Manufacturers may be subject to a verification of their quality system prior to approval. This may consist of a review of the manufacturer's quality manual (see 4.1.3.4) and an on-site quality system evaluation (see 3.1).

4.1.3.1 Instructions

Submit a copy of the instructions conforming to 3.12 including the statement concerning locks in 3.6.

4.1.3.2 Documentation

The unit submitted for approval shall be accompanied by one complete set of manufacturing drawings consisting of black-on-white prints (blueprints or sepia are unacceptable). The drawings shall be dated and signed by a manufacturer's representative(s). The drawings must completely document and represent the design of the unit tested. The drawings must include sufficient details to allow the USPS to inspect all materials, construction methods, processes, coatings, treatments, finishes (including paint types and colors), control specifications, parts, and assemblies used in the construction of the unit. Additionally, the drawings must fully describe any purchased materials, components, and hardware, including their respective finishes. The USPS may request individual piece parts to verify drawings.

4.1.3.3 Certification of Compliance and Test Results

Manufacturers shall furnish a written certificate of compliance indicating that their design fully complies with the requirements of this specification. In addition, the manufacturer shall submit the lab's original report which clearly shows results of each test conducted (see Table III). The manufacturer bears all responsibility for their unit(s) meeting these requirements and the USPS reserves the right to retest any and all units submitted, including those which are available to the general public.

Table III.—Test Requirements
Test | Requirement | Reference | Applicable document
Capacity | Insertion of test gauge | 3.15.1
Operational Requirements | 7,500 cycles | 3.15.2
Water Tightness | No appreciable moisture | 3.15.3 | UL 771, Section 47.7.
Salt Spray Resistance | 25 cycles | 3.15.4 | ASTM G85.
Abrasion Resistance | 75 liters | 3.15.5 | ASTM D968.
Temperature Stress Test | Shall function between −65 °F and 140 °F | 3.15.6
Structural Rigidity Requirements | Refer to Table I for loads and points, maximum ⅛ inch permanent deformation | 3.15.7
Impact Test | 10 lbs. dropped from 3 feet | 3.15.8

4.1.3.4 Quality Assurance Manual

The manufacturer shall submit its quality policy manual. The manual should be structured in accordance with ISO 10013 and with the requirements of ISO 9002.

5 APPROVAL OR DISAPPROVAL

5.1 Disapproval

Written notification, including reasons for disapproval, will be sent to the manufacturer within 30 days of completion of the final review of all submitted units. All correspondence and inquiries shall be directed to the address listed in 1.3.2.

5.1.1 Disapproved Mailboxes

Mailboxes disapproved will be disposed of in 30 calendar days from the date of the written notification of disapproval, or returned to the manufacturer if requested, provided the manufacturer pays shipping costs.

5.2 Approval

One set of manufacturing drawings with written notification of approval will be returned to the manufacturer. The drawings will be stamped and identified as representing each unit.

5.2.1 Approved Mailboxes

Mailboxes that are approved will be retained by the USPS.

5.2.2 Production Units

Manufacturer's production units shall be constructed in accordance with the identified (stamped) drawings and provisions of this specification and be of the same materials, construction, coating, workmanship, finish, etc. as the approved units. Within 60 days upon sale of their approved mailbox to the public, manufacturers shall submit one production unit to the USPS office listed in 1.3.2. The USPS reserves the right at any time to examine and retest units obtained either in the general marketplace or from the manufacturer. If the USPS determines that a particular mailbox model is not in compliance with this standard, USPS may suspend or rescind approval as follows.

5.2.2.1 The USPS will provide written notice to the manufacturer that a particular mailbox model is not in compliance with this standard. This notice will state specific reason(s) why the product is no longer considered in compliance. It will be sent registered mail with the manufacturer's receipt of notice documented.

5.2.2.2 The manufacturer must then respond to the USPS within 30 days with a reasonable and timely corrective plan of action to bring the mailbox model back into compliance. During the interim, production of the mailbox shall cease and any existing inventory shall be destroyed.

5.2.2.3 The USPS will then respond within 14 days whether the submitted corrective plan of action is accepted or rejected, with reason noted.

5.2.2.4 The USPS will proceed to monitor the manufacturer's compliance with their corrective plan of action.

5.2.2.5 The corrected mailbox model is sent to the USPS for re-approval within the corrective plan of action's time frame.

5.2.2.6 The USPS will respond within 30 days whether the corrected model is again in compliance with this standard. If the model is found to be out of compliance, the USPS will rescind its approval. Consequently, the manufacturer will have to follow application requirements outlined in section 4 to regain approval of the model.

5.2.3 Revisions, Product or Drawings

Changes which affect the form, fit, or function (i.e., dimensions, material, finish) of approved products or drawings shall not be made without written approval from the USPS. Any proposed changes shall be submitted with the affected documentation, reflecting the changes (including a notation in the revision area) and a written explanation of the changes. One unit, incorporating the changes, may be required to be resubmitted for testing and evaluation for approval.

5.2.3.1 Revisions, Manufacturer Structure

If any substantive part of the approved manufacturer's structure changes from what existed when the manufacturer became approved, the manufacturer shall notify the USPS and may be subject to a re-evaluation of product or quality system. Examples of substantive structural changes are: change in executive or quality management, major change in quality policy or procedures, relocation of manufacturing facilities, major equipment or manufacturing process change (e.g., outsourcing versus in-plant fabrication), etc. Notification of such changes will be to the address in 1.3.2.

5.2.4 Product Brochure

Within 60 days upon sale to public, manufacturers shall submit one copy of their product(s) brochure(s) representing approved mailbox design(s) to the address listed in 1.3.2, and to: USPS, Delivery Policy and Programs, 475 L'Enfant Plaza, Rm. 7142, Washington, DC 20260-0004.

6 Notes

6.1 Mailboxes intended to be used in delivery to customer's doors are not currently “approved” by the United States Postal Service as referenced in this standard. However, it is recommended that these boxes conform to the intentions of this specification, particularly the safety of the carrier and customer and the protection of the mail. The local postmaster shall be contacted prior to installation and use of any door mailbox.

6.2 The United States Postal Service does not approve mailbox posts or regulate mounting of mailboxes other than the requirements specified in sections 3.11 and 3.12. Please note that mailbox posts are often subject to local restrictions, state laws, and federal highway regulations. Further information may be obtained from:

American Association of State Highway and Transportation Officials, 444 N Capitol St NW, Ste 249, Washington, DC 20001-1512

Federal Highway Administration Office of Highway Safety HHS 10, 400 7th St SW, Washington, DC 20590-0003

BILLING CODE 7710-12-P

BILLING CODE 7710-12-C

Appendix A—USPS-Approved Independent Test Laboratories

(1) ACTS Test Labs, 100 Northpointe Parkway, Buffalo, NY 14228-1884, Contact: Dennis Maclaughlin, Phone: 716-505-3547 Fax: 716-505-3301.

(2) The Coatings Lab, 10175 Harwin Drive, Suite 110, Houston, TX 77036, Contact: Tom Schwerdt, Phone: 713-981-9368 Fax: 713-776-9634.

(3) Ithaca Materials Research and Testing, Inc. (IMR), Lansing Business and Technology Park, 31 Woodsedge Drive, Lansing, NY 14882, Contact: Jeff Zerilli, Vice President, Phone: 607-533-7000.

(4) Independent Test Laboratories, Inc., 1127B Baker Street, Costa Mesa, CA 92626, Contact: Robet Bouvier, Phone: 800-962-Test Fax: 714-641-3836.

(5) Environ Labs L.L.C., 9725 Girard Ave S., Minneapolis, MN 55431, Contact: Chuck Mapes, Phone: 800-826-3710 Fax: 612-888-6345.

(6) Midwest Testing Laboratories, Inc., 1072 Wheaton, Troy, MI 48083, Contact: Cherie Ulatowski, Phone: 248-689-9262 Fax: 248-689-7637.

Note: Additional test laboratories may be added provided they satisfy USPS certification criteria. Interested laboratories should contact: USPS Engineering, Test Evaluation and Quality, 8403 Lee Hwy, Merrifield, VA 22082-8101.

Stanley F. Mires,
Chief Counsel, Legislative.

[FR Doc. 00-27913 Filed 10-31-00; 8:45 am]

BILLING CODE 7710-12-P